DEPARTMENT OF HOMELAND SECURITY

Federal Emergency Management Agency

[Docket ID: FEMA-2013-0055; OMB No. 1660-0016]

Agency Information Collection Activities: Submission for OMB Review; Comment Request; Revision to National Flood Insurance Program Maps: Application Forms and Instructions for LOMRs and CLOMRs

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 7, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Revision to National Flood Insurance Program Maps: Application Forms and Instructions for LOMRs and CLOMRs.

Type of information collection: Revision of a currently approved information collection.

Form Titles and Numbers: FEMA Form 086-0-27, Overview and Concurrence form; FEMA Form 086-0-27A, Riverine Hydrology and Hydraulics Form; FEMA Form 086-0-27B, Riverine Structures Form; FEMA Form 086-0-27C, Coastal Analysis Form; FEMA Form 086-0-27D, Coastal Structures Form; FEMA Form 086-0-27E, Alluvial Fan Flooding Form.

Abstract: The forms in this information collection are used to determine if the collected data will result in the modification of Base Flood Elevations (BFEs), Special Flood Hazard Area (SFHA), or floodway. Once the information is collected, it is submitted to FEMA for review and is subsequently included on the National Flood Insurance Program (NFIP) maps. These maps are used by FEMA to set insurance rates and to determine the applicability of the floodplain management requirements, as well as by lenders to determine the applicability of the mandatory purchase requirenents.

Affected Public: State, Local and Tribal Government and Business or Other for-Profit Institutes.

Estimated Number of Respondents: 3,520.

Estimated Total Annual Burden Hours: 16,060.

Estimated Cost: The cost to developers for engineer's services include scoping, surveying cross-sections, developing hydrologic and hydraulic analysis, and preparing work maps and reports documenting the engineering analysis and results is estimated to be $19,800,000.00.

Dated: February 28, 2014.
Charlene D. Myrthil,
Director, Records Management Division, Mission Support Bureau, Federal Emergency Management Agency, Department of Homeland Security.

[FR Doc. 2014-04913 Filed 3-5-14; 8:45 am]

BILLING CODE 9111-52-P